DEPARTMENT OF ENERGY

Federal Energy Regulatory Commission

[Project No. 2503-091]

Duke Power Company, LLC; Notice of Availability of Environmental Assessment

June 30, 2006.

In accordance with the National Environmental Policy Act of 1969 and the Federal Energy Regulatory Commission's (Commission) regulations, 18 CFR part 380 (Order No. 486, 52 FR 47897), the Office of Energy Projects has reviewed an application for non-project use of project lands and waters at the Keowee-Toxaway Hydroelectric Project (FERC No. 2503), and has prepared an Environmental Assessment (EA) for the proposed non-project use. The non-project use of project lands and waters is located on Lake Keowee in Pickens County, South Carolina.

In the application, Duke Power requests Commission authorization to lease 63 acres of project land to Warpath Development, Inc. to construct and maintain a public recreation area at the Warpath Access Area. The public recreation area would include water related facilities and services, outdoor recreation opportunities, lodging, and dining. The EA contains Commission staff's analysis of the probable environmental impacts of the proposal and concludes that approving the licensee's application would not constitute a major federal action significantly affecting the quality of the human environment.

The EA is attached to a Commission order titled “Order Approving Non-Project Use of Project Lands and Waters,” which was issued June 30, 2006, and is available for review and reproduction at the Commission's Public Reference Room, located at 888 First Street, NE., Room 2A, Washington, DC 20426. The EA may also be viewed on the Commission's Web site at http://www.ferc.gov using the “elibrary” link. Enter the project number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E6-10696 Filed 7-7-06; 8:45 am]

BILLING CODE 6717-01-P